DEPARTMENT OF TRANSPORTATION

Federal Aviation Administration

Notice of Intent To Rule on Request To Release Airport Property at Tulsa International Airport, Tulsa, OK

AGENCY: Federal Aviation Administration (FAA), DOT.

ACTION: Notice of Request to Release Airport Property.

SUMMARY: The FAA proposes to rule and invite public comment on the release of land at the Tulsa International Airport under the provision of Section 817 of the FAA Modernization and Reform Act of 2012.

DATES: Comments must be received on or before April 30, 2012.

ADDRESSES: Comments on this application may be mailed or delivered to the FAA at the following address: Mr. Edward Agnew, Manager, Federal Aviation Administration, Southwest Region, Airports Division, AR/OK Airports District Office, 2601 Meacham Boulevard, Fort Worth, Texas, 76137.

In addition, one copy of any comments submitted to the FAA must be mailed or delivered to Mr. Jeff Hough, Deputy Airports Director, Tulsa International Airport, P.O. Box 581838, Tulsa, Oklahoma, 74158.

FOR FURTHER INFORMATION CONTACT: Mr. Roman Piñon, Project Manager, Federal Aviation Administration, Southwest Region, Airports Division, AR/OK Airports District Office, 2601 Meacham Boulevard, Fort Worth, Texas 76137.

The request to release property may be viewed in person at this same location.

SUPPLEMENTARY INFORMATION: The FAA invites public comment on the request to release property at the Tulsa International Airport under the provision of the FAA Modernization and Reform Act of 2012.

On June 18, 2010, the FAA determined that the request to release property at Tulsa International Airport submitted by the Tulsa Airport Authority, Tulsa, Oklahoma, met the procedural requirements of the Federal Aviation Regulations, Part 155. The FAA may approve the request, in whole or in part, no later than April 30, 2012.

The following is a brief overview of the request:

The Tulsa International Airport requests the release of 68,167 square feet of non-aeronautical property to the Tulsa Airport Authority. The current property is currently vacant and has no ability to have any aviation use associated with the land. The parcel does not have access to the airfield and is in no conflict with the Master Plan in this area. The purpose of this release is to allow the Tulsa Airport Authority to sell the subject land that no longer serves any aeronautical purpose to the airport to Danny's Auto Salvage for use as an automobile salvage yard.

Any person may inspect the request by appointment at the FAA office listed above under FOR FURTHER IMFORMATION CONTACT.

In addition, any person may, inspect the application, notice and other documents germane to the application in person at the Tulsa International Airport, 8602 South Elwood, Tulsa, Oklahoma, 74132.

Issued in Fort Worth, Texas, on March 9, 2012.
Joseph G. Washington,
Acting Manager, Airports Division Office.

[FR Doc. 2012-6833 Filed 3-21-12; 8:45 am]

BILLING CODE 4910-13-P